DEPARTMENT OF HEALTH AND HUMAN SERVICES

National Institutes of Health

National Cancer Institute; Cancellation of Meeting

Notice is hereby given of the cancellation of the National Cancer Institute Special Emphasis Panel, June 27, 2016, 11:00 a.m. to June 27, 2016, 12:00 p.m., National Cancer Institute Shady Grove, 9609 Medical Center Drive, 7W624, Rockville, MD, 20850 which was published in the Federal Register on May 2, 2016, 81FR26240.

This meeting is canceled because the applications were reassigned.

Dated: June 27, 2016.
Melanie J. Gray,
Program Analyst, Office of Federal Advisory Committee Policy.

[FR Doc. 2016-15591 Filed 6-30-16; 8:45 am]

BILLING CODE 4140-01-P